ENVIRONMENTAL PROTECTION AGENCY

[FRL-6951-4]

Notice of Gulf of Mexico Programs Citizen's Advisory Committee Meeting

AGENCY: Environmental Protection Agency (EPA).

ACTION: Notice of meeting.

SUMMARY: Under the Federal Advisory Act, Pub.L. 92463, EPA gives notice of a meeting of the Gulf of Mexico Program (GMP) Citizens Advisory Committee (CAC).

DATES: The CAC meeting will be held on Tuesday, March 27, 2001 from 1:00 to 5:30 p.m. and on Wednesday, March 28, 2001 from 9:00 a.m. to 1:30 p.m.

ADDRESSES: The meeting will be held at the River House, Stennis Space Center, Mississippi, 39529, (228) 688-3726.

FOR FURTHER INFORMATION CONTACT: Gloria D. Car, Designated Federal Officer, Gulf of Mexico Program Office, Building 1103, Room 202, Stennis Space Center, MS 39529-6000 at (228) 688-2421.

SUPPLEMENTARY INFORMATION: Proposed agenda items will include: Update on Gulf of Mexico Program Workplan and activities, presentation and discussion on Agricultural Best Management Practices, election of secretary, and roundtable discussions on top issues in each state.

The meeting is open to the public.

Dated: February 28, 2001.
Gloria D. Car,
Designated Federal Officer.

[FR Doc. 01-5862 Filed 3-8-01; 8:45 am]

BILLING CODE 6560-50-U